INTERNATIONAL TRADE COMMISSION

[Investigation Nos. 701-TA-624-625 and 731-TA-1450-1451 (Review)]

Quartz Surface Products From India and Turkey; Determinations

On the basis of the record ¹ developed in the subject five-year reviews, the United States International Trade Commission (“Commission”) determines, pursuant to the Tariff Act of 1930 (“the Act”), that revocation of the antidumping and countervailing duty orders on quartz surface products from India and Turkey would be likely to lead to continuation or recurrence of material injury to an industry in the United States within a reasonably foreseeable time.

¹ The record is defined in § 207.2(f) of the Commission's Rules of Practice and Procedure (19 CFR 207.2(f)).

Background

The Commission instituted these reviews on May 1, 2025 (90 FR 18697) and determined on August 4, 2025, that it would conduct expedited reviews (90 FR 45245, September 19, 2025).²

² Due to the lapse in appropriations and ensuing cessation of Commission operations, the Commission tolled its schedule for this proceeding. The schedule was revised in a subsequent notice published in the Federal Register on November 28, 2025 (90 FR 54744).

The Commission made these determinations pursuant to section 751(c) of the Act (19 U.S.C. 1675(c)). It completed and filed its determinations in these reviews on December 16, 2025. The views of the Commission are contained in USITC Publication 5691 (December 2025), entitled Quartz Surface Products from India and Turkey: Investigation Nos. 701-TA-624-625 and 731-TA-1450-1451 (Review).

By order of the Commission.
Issued: December 16, 2025.
Lisa Barton,
Secretary to the Commission.

[FR Doc. 2025-23303 Filed 12-17-25; 8:45 am]

BILLING CODE 7020-02-P